DEPARTMENT OF AGRICULTURE

Forest Service

Custer Gallatin National Forest; Montana; Revision of the Land Management Plan for the Custer Gallatin National Forest

AGENCY: Forest Service, Agriculture (USDA).

ACTION: Notice of opportunity to object to the revised land management plan for the Custer Gallatin National Forest.

SUMMARY: The Forest Service is revising the Custer Gallatin National Forest's 1986 and 1987 Land and Resource Management Plans. The Forest Service has prepared a final environmental impact statement (final EIS) for the revised land management plan, and a draft record of decision (ROD). This notice is to inform the public that a 60-day period is being initiated where individuals or entities with specific concerns about the Custer Gallatin National Forest's revised land management plan and the associated final EIS may file objections for Forest Service review prior to the approval of the revised land management plan. This is also an opportunity to object to the Regional Forester's list of species of conservation concern (SCC) for the Custer Gallatin National Forest.

DATES: The publication date of the legal notice in the Custer Gallatin National Forest's newspapers of record, Billings Gazette, Bozeman Daily Chronicle and Rapid City Journal, initiates the 60-day objection period and is the exclusive means for calculating the time to file an objection (36 CFR 219.52(c)(5)). An electronic scan of the legal notice with the publication date will be posted at www.fs.usda.gov/custergallatin.

ADDRESSES: The Custer Gallatin National Forest's revised land management plan, final EIS, draft ROD, and other supporting information will be available for review at: www.fs.usda.gov/custergallatin and click on Forest Plan Revision. The Custer Gallatin National Forest's list of species of conservation concern and other supporting information will be available for review at: http://bit.ly/NorthernRegion-SCC. These web addresses include an objection template as an aid to providing the required information. Please be explicit as to whether the objection is for the land management plan or the species of conservation concern.

Electronic objections must be submitted to the Objection Reviewing Officer via the CARA objection webform at https://cara.ecosystem-management.org/Public/CommentInput?project=50185. Electronic submissions must be submitted in a format that is readable with optical character recognition software (e.g. Word, PDF, Rich Text) and be searchable.

The following address should be used for objections submitted by regular mail, private carrier, or hand delivery: Objection Reviewing Officer, USDA Forest Service, Northern Region, 26 Fort Missoula Road, Missoula, MT 59804. Office hours are Monday through Friday, 8:00 a.m. to 4:30 p.m., excluding Federal holidays. Objections can be faxed to the Objection Reviewing Officer at (406) 329-3411. The fax coversheet must include a subject line with “Custer Gallatin Forest Plan Objection” or “Custer Gallatin Species of Conservation Concern” and should specify the number of pages being submitted.

If you are unable to submit objections via electronic submission, fax, or regular mail and must submit them by hand to the Northern Regional Office, please refer to signage at the front door regarding the delivery of hand-delivered items, which will include a phone number to arrange delivery of your objection.

FOR FURTHER INFORMATION CONTACT: Project Leader, Virginia Kelly, 10 E Babcock (P.O. Box 130, Bozeman, MT 59771), 406-587-6735.

Individuals who use telecommunication devices for the deaf (TDD) may call the Federal Information Relay Service (FIRS) at 1-800-877-8339 between 8 a.m. and 8 p.m., Eastern Time, Monday through Friday. Additional information concerning the draft RODs may be obtained on the internet at the websites listed in the ADDRESSES section of this document.

SUPPLEMENTARY INFORMATION: The decision to approve the revised land management plan for the Custer Gallatin National Forest and the Regional Forester's identification of species of conservation concern will be subject to the objection process identified in 36 CFR part 219, subpart B (§§ 219.50 through 219.62).

How To File an Objection

Objections must be submitted to the Reviewing Officer, at the address shown in the ADDRESSES section of this notice. An objection must include the following (36 CFR 219.54(c)):

(1) The objector's name and address along with a telephone number or email address if available. In cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name of the plan revision or forest plan amendment being objected to, and the name and title of the responsible official;

(5) A statement of the issues and/or parts of the plan revision to which the objection applies;

(6) A concise statement explaining the objection and suggesting how the proposed plan decision may be improved. If the objector believes that the plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except that the following need not be provided:

a. All or any part of a Federal law or regulation,

b. Forest Service Directive System documents and land management plans or other published Forest Service documents,

c. Documents referenced by the Forest Service in the planning documentation related to the proposal subject to objection, and

d. Formal comments previously provided to the Forest Service by the objector during the plan revision comment period.

It is the responsibility of the objector to ensure that the reviewing officer receives the objection in a timely manner. The regulations prohibit extending the length of the objection filing period (36 CFR 219.56(d)).

Responsible Official

The responsible official who will approve the record of decision for the Custer Gallatin National Forest revised land management plan is Mary Erickson, Forest Supervisor for the Custer Gallatin National Forest, 10 E Babcock (P.O. Box 130, Bozeman, MT 59771), 406-587-6735. The Responsible Offical for the identification of the species of conservation concern for the Helena-Lewis and Clark National Forest is Leanne Marten, Northern Region Regional Forester, 26 Fort Missoula, Missoula, MT 59804.

The Regional Forester is the reviewing officer for the revised land management since the Forest Supervisor is the deciding official (36 CFR 219.56(e)(2)). Objection review of the list of species of conservation concern will be subject to a separate objection process. The Chief of the Forest Service is the reviewing officer for the list of species of conservation concern identification as the Regional Forester is the responsbile official (36 CFR 219.56(e)(2)).

Allen Rowley,
Associate Deputy Chief, National Forest System.

[FR Doc. 2020-14825 Filed 7-9-20; 8:45 am]

BILLING CODE 3411-15-P